DEPARTMENT OF HEALTH AND HUMAN SERVICES

HIV/AIDS Health Promotion and Education Program

AGENCY: Department of Health and Human Services, Office of the Secretary, Office of Public Health and Science, Office of Minority Health.

ACTION: Notice.

Announcement Type: Competitive, Initial Announcement of Availability of Funds.

Catalog of Federal Domestic Assistance Number: HIV/AIDS Health Promotion and Education Program—93.004.

DATES: To receive consideration, applications must be received by the Office of Grants Management, Office of Public Health and Science (OPHS), Department of Health and Human Services (DHHS) c/o WilDon Solutions, Office of Grants Management Operations Center, attention Office of Minority Health HIV/AIDS Health Promotion and Education Program, no later than 5 p.m. Eastern Time on July 30, 2007. The application due date requirement in this announcement supercedes the instructions in the OPHS-1 form.

ADDRESSES: Application kits may be obtained electronically by accessing Grants.gov at http://www.grants.gov or GrantSolutions at http://www.GrantSolutions.gov. To obtain a hard copy of the application kit, contact WilDon Solutions at 1-888-203-6161. Applicants may fax a written request to WilDon Solutions at (703) 351-1138 or e-mail the request to OPHSgrantinfo@teamwildon.com. Applications must be prepared using Form OPHS-1 “Grant Application,” which is included in the application kit.

Contacts: For further information contact WilDon Solutions, Office of Grants Management Operations Center, 1515 Wilson Blvd., Third Floor Suite 310, Arlington, VA 22209, at 1-888-203-6161, e-mail OPHSgrantinfo@teamwildon.com or fax 703-351-1138.

SUMMARY: This announcement is made by the United States Department of Health and Human Services (HHS or Department), Office of Minority Health (OMH) located within the Office of Public Health and Science (OPHS), and working in a “One-Department” approach collaboratively with participating HHS agencies and programs (entities). As part of a continuing HHS effort to improve the health and well being of racial and ethnic minorities, the Department announces availability of FY 2007 funding for the HIV/AIDS Health Promotion and Education Program (hereafter referred to as the HIV/AIDS Program). OMH is authorized to conduct this program under 42 U.S.C. 300 u-6, section 1707 of the Public Health Service Act, as amended. The mission of the OMH is to improve the health of racial and ethnic minority populations through the development of policies and programs that address disparities and gaps. OMH serves as the focal point within the HHS for leadership, policy development and coordination, service demonstrations, information exchange, coalition and partnership building, and related efforts to address the health of racial and ethnic minorities. OMH activities are implemented in an effort to address Healthy People 2010, a comprehensive set of disease prevention and health promotion objectives for the Nation to achieve over the first decade of the 21st century (http://www.healthypeople.gov). This funding announcement is also made in support of the OMH National Partnership for Action initiative. The mission of the National Partnership for Action is to work with individuals and organizations across the country to create a Nation free of health disparities with quality health outcomes for all by achieving the following five objectives: Increasing awareness of health disparities, strengthening leadership at all levels for addressing health disparities; enhancing patient-provider communication; improving cultural and linguistic competency in delivering health services; and better coordinating and utilizing research and outcome evaluations.

Minority communities are currently at the center of the HIV/AIDS epidemic in this country. The Centers for Disease Control and Prevention (CDC) estimates that more than 1.1 million Americans were living with HIV/AIDS at the end of 2005.¹ The CDC also states that young people in the U.S. are at persistent risk for HIV infection. “This risk is especially notable for youth of minority races and ethnicities.” ² Multifaceted approaches to HIV/AIDS prevention which involve peers, school, faith-based, and community components are necessary to reduce the incidence of HIV/AIDS among young people.³ Background information on racial/ethnic disparities in HIV/AIDS can be found in Section VIII of this announcement.

¹ HIV/AIDS Surveillance Report; Cases of HIV Infection and AIDS in the United States, 2005; Volume 17.

² CDC HIV/AIDS Fact Sheet: HIV/AIDS Among Youth, June 2006.

³ Ibid.

The HIV/AIDS Program is designed to support activities implemented by national minority serving organizations on college campuses in rural and urban communities that will increase awareness of HIV/AIDS risk factors, and positively alter the future course of HIV/AIDS among young adult minority populations. It is intended that this program will demonstrate that the involvement of national minority-serving organizations in partnership with institutions of higher education (particularly those with a history of serving minority populations, such as Historically Black Colleges and Universities—HBCUs, Hispanic Serving Institutions—HSIs, Tribal Colleges and Universities—TCUs, and other accredited minority-serving post-secondary institutions) can be vital in effectively reaching and educating young adult minority populations at risk for, affected by and/or infected with HIV/AIDS. The risk of many diseases and health conditions, including HIV/AIDS, are reduced through preventative actions. Under this program, support will be provided to projects that emphasize prevention, one of the HHS priorities.

SUPPLEMENTARY INFORMATION:

Table Of Contents

Section I. Funding Opportunity Description

1. Purpose

2. OMH Expectations

3. Applicant Project Results

4. Project Requirements

Section II. Award Information

Section III. Eligibility Information

1. Eligible Applicants

2. Cost Sharing or Matching

3. Other

Section IV. Application and Submission Information

1. Address to Request Application Package

2. Content and Form of Application Submission

3. Submission Dates and Times

4. Intergovernmental Review

5. Funding Restrictions

Section V. Application Review Information

1. Criteria

2. Review and Selection Process

3. Anticipated Award Date

Section VI. Award Administration Information

1. Award Notices

2. Administrative and National Policy Requirements

3. Reporting Requirements

Section VII. Agency Contacts

Section VIII. Other Information

1. Background

2. Healthy People 2010

3. Definitions

Section I. Funding Opportunity Description

1. Purpose

The purpose of the HIV/AIDS Health Promotion and Education Program is to improve the health status, relative to HIV/AIDS, of young adult high risk populations, particularly racial and ethnic minorities (see definition of minority populations in Section VIII.3 of this announcement) by eliminating disparities. Through this FY 2007 announcement, the OMH promotes partnerships between national minority-serving organizations and institutions of higher education, particularly those with a history of serving minority populations, such as Historically Black Colleges and Universities (HBCUs), Hispanic Serving Institutions (HSIs), Tribal Colleges and Universities (TCUs), and other accredited minority-serving post-secondary institutions. This program also promotes promising practices and model programs targeting unique minority communities.

2. OMH Expectations

It is intended that the HIV/AIDS Health Promotion and Education Program will result in:

Increased awareness of risk factors for HIV/AIDS, and knowledge of methods, such as abstinence, by which transmission of HIV/AIDs can be prevented;

Adoption of health promoting behaviors;

Reduction in high-risk behaviors;

Improved access to HIV/AIDS services for high-risk populations; and

Increased counseling and testing services for high-risk populations, connection to a continuum of care, and increased patient knowledge on how best to access such care.

3. Applicant Project Results

Applicants must identify at least 2 of the following project results that are consistent with the HIV/AIDS Program overall and OMH expectations. Project results should fall within the following general categories:

Increased awareness of health disparities, relative to HIV/AIDS among minorities;

Improved patient-provider interaction; and/or

Improved cultural, linguistic and literacy competency.

The outcomes of these projects will be used to develop other national efforts to address health disparities among racial and ethnic minority populations.

4. Project Requirements

Each applicant under the HIV/AIDS Health Promotion and Education Program must:

Implement the project through collaborative partnership arrangements between the applicant and at least two institutions of higher education, particularly those with a history of serving minority populations (one rural and one urban). The partnership must have the capacity to:

Develop, implement and conduct demonstration projects on college campuses and in high-risk minority communities, urban and/or rural;

Conduct outreach, screening, prevention information dissemination and education, and risk reduction-focused activities;

Plan and coordinate age-appropriate activities which reduce existing sociocultural, linguistic, and literacy barriers for individuals seeking and accepting HIV/AIDS services;

Identify problems such as gaps in services, or issues, such as access to health care;

Link to enabling services to ensure that participants followup with referrals and treatment; and

Identify existing resources in the targeted communities which will be linked to the proposed project.

5. Federal Involvement

Projects supported under the HIV/AIDS Program will be funded via a cooperative agreement mechanism. Cooperative agreements involve significant Federal interaction with the recipient organization in the implementation of program activities. For this program, this interaction includes, but is not limited to:

Oversight and clearance for the implementation, conduct and assessment of project activities.

Collaborative work with funding recipients to develop and implement evaluation strategies incorporating the required Uniform Data Set which is to be used to report program information.

Review and approval of assessment and evaluation instruments and/or plans.

Direction to funding recipients on the submission of project data to OMH.

Coordination and communication between funding recipients and other national organizations.

Serving in a liaison capacity between funding recipients and appropriate federal government agencies.

Planning and conducting an annual grantee meeting.

Section II. Award Information

Estimated Funds Available for Competition: $2,300,000 in FY 2007 (Grant awards are subject to the availability of funds.)

Anticipated Number of Awards: 10 to 12.

Range of Awards: $175,000 to $200,000 per year.

Anticipated Start Date: September 1, 2007.

Period of Performance: 3 Years (September 1, 2007 to August 31, 2010).

Budget Period Length: 12 months.

Type of Award: Cooperative Agreement.

Type of Application Accepted: New, Competing Continuation.

Section III. Eligibility Information

1. Eligible Applicants

To qualify for funding, an applicant must:

Be a private, nonprofit national minority-serving organization which addresses health and human services and has a history of service to racial and ethnic minority populations. Examples of national minority-serving organizations that may apply include, but are not limited to:

Organizations representing community health organizations serving minority populations;

Organizations that focus on minority health, education, leadership development, and national partnerships; and

Organizations whose membership represents minority-focused health professionals.

Implement the project through a collaborative partnership arrangement with at least two institutions of higher education, particularly those with a history of serving minority populations (one rural, one urban). The collaboration must be documented through separate signed Memorandum of Agreement (MOA) between the applicant and each partnering institution of higher education. The partners must each have a specific, significant role in conducting the proposed project. The MOA must specify in detail the roles and resources that each entity will bring to the project, and the terms of the agreement. The MOA must cover the entire project period. The MOA must be signed by individuals with the authority to obligate the organization (e.g., president of college or university, chief executive officer, executive director).

Be an established national (defined by charter or bylaws to operate nationally), nonprofit organization (a non-governmental, nonprofit corporation or association whose net earnings in no part accrue to the benefit of private shareholders or individuals). Bylaws and/or charter must be furnished with the application.

Other entities that meet the definition of a private non-profit national minority-serving organization eligible to apply, such as national faith-based and/or national tribal organizations.

Because the intent of this program is to address the HIV/AIDS epidemic at the national level, only organizations with a national reach are eligible to apply.

The organization submitting the application will:

Serve as the lead agency for the project;

Be responsible for implementation and management; and

Serve as the fiscal agent for the Federal grant awarded.

2. Cost Sharing or Matching

Matching funds are not required for the HIV/AIDS Program.

3. Other

Organizations applying for funds under the HIV/AIDS Health Promotion and Education Program must submit documentation of nonprofit status and documentation of an established national nonprofit organization as defined by charter or bylaws to operate nationally with their applications. If documentation is not provided, the application will be considered non-responsive and will not be entered into the review process. The organization will be notified that the application did not meet the submission requirements.

Any of the following serves as acceptable proof of nonprofit status:

A reference to the applicant organization's listing in the Internal Revenue Service (IRS) most recent list of tax-exempt organizations described in section 501(c)(3) of the IRS Code.

A copy of a currently valid IRS tax exemption certificate.

A statement from a State taxing body, State Attorney General, or other appropriate State official certifying that the applicant organization has a nonprofit status and that none of the net earnings accrue to any private shareholders or individuals.

A certified copy of the organization's certificate of incorporation or similar document that clearly establishes nonprofit status.

If funding is requested in an amount greater than the ceiling of the award range, the application will be considered non-responsive and will not be entered into the review process. The application will be returned with notification that it did not meet the submission requirements.

Applications that are not complete or that do not conform to or address the criteria of this announcement will be considered non-responsive and will not be entered into the review process. The application will be returned with notification that it did not meet the submission requirements.

An organization may submit no more than one application to the HIV/AIDS Health Promotion and Education Program. Organizations submitting more than one proposal for this cooperative agreement program will be deemed ineligible. The multiple proposals from the same organization will be returned without comment.

Organizations are not eligible to receive funding from more than one OMH grant program to carry out the same project and/or activities.

Section IV. Application and Submission Information

1. Address To Request Application Kit

Application kits for the HIV/AIDS Health Promotion and Education Program may be obtained by accessing Grants.gov at http://www.grants.gov or the GrantsSolutions system at http://www.grantsolutions.gov. To obtain a hard copy of the application kit for this cooperative agreement program, contact WilDon Solutions at 1-888-203-6161.

Applicants may also fax a written request to WilDon Solutions at (703) 351-1138 or e-mail the request to OPHSgrantinfo@teamwildon.com. Applications must be prepared using Form OPHS-1, which can be obtained at the Web sites noted above.

2. Content and Form of Application Submission

A. Application and Submission

Applicants must use Grant Application Form OPHS-1 and complete the Face Page/Cover Page (SF 424), Checklist, and Budget Information Forms for Non-Construction Programs (SF 424A). In addition, the application must contain a project narrative. The project narrative (including summary and appendices) is limited to 75 pages double-spaced. For those institutions that previously received funding under the OMH-supported HIV/AIDS Health Promotion and Education Program, in addition to the project narrative, you must attach a report on that program and its results. This report is limited to 15 pages double-spaced, which do not count against the page limitation

The narrative description of the project must contain the following, in the order presented:

Table of Contents.

Project Summary (Overview): Briefly describe key aspects of the Background, Objectives, Program Plan, and Evaluation Plan. The summary is limited to 3 pages.

Background:

Statement of Need: Describe and document, with data, demographic information on the targeted local geographic area, and the significance or prevalence of HIV/AIDS health problem(s) or issue(s) affecting the local target minority group(s), especially young adult minority populations. Identify problems such as gaps in services, or issues such as access to HIV/AIDS health care, social and cultural barriers, or mental health concerns affecting the targeted communities to be addressed by the proposed project. Describe the minority group(s) targeted by the project (e.g., race/ethnicity, age, gender, educational level/income).

Experience: Describe the applicant organization's background, and the background/experience of all participating institutions of higher education, as well as any additional partners. Provide a rationale for their inclusion in the project. Describe any similar projects implemented to work with the targeted population(s) and the results of those projects. Document at least three years of experience working with the targeted minority populations, and the capacity to conduct HIV/AIDS programs and activities. (For those institutions that previously received funding under the OMH-supported HIV/AIDS Health Promotion and Education Program, you must attach a report on that specific project and its results.)

Discuss the applicant organization's experience in managing projects/activities, especially those targeting the high-risk population to be served. Indicate where the project will be located within the applicant organization's structure and the reporting channels. Provide a chart of the proposed project's organizational structure, showing who will report to whom. Describe how the partner institutions of higher education, as well as any additional partners, will interface with the applicant organization.

Objectives: Provide objectives stated in measurable terms including baseline data, improvement targets, and time frames for achievement for the three-year project period. Explain how the stated objectives relate to the expected results of the project.

Program Plan: Provide a plan which clearly describes how the project will be carried out. Describe specific activities and strategies planned to achieve each objective. For each activity, describe how, when, where, by whom, and for whom the activity will be conducted. Describe how outreach, counseling and testing, prevention information and education to reduce risk behaviors and promote the adoption of health promoting behaviors, and connecting to enabling services and to treatment will be accomplished. Include the role of each participating partner institution of higher education as well as any additional partners and/or collaborating agencies. Provide a description of the proposed program staff, including resumes and job descriptions for key staff, qualifications and responsibilities of each staff member, and percent of time each will commit to the project. Provide a description of duties for any proposed consultants. Describe any products to be developed by the project. Provide a time line for each year of the three-year project period.

Evaluation Plan: Delineate how program activities will be evaluated. The evaluation plan must clearly articulate how the project will be evaluated to determine if the intended results have been achieved. The evaluation plan must describe, for all funded activities:

—Intended results (i.e., impacts and outcomes);

—How impacts and outcomes will be measured (i.e., what indicators or measures will be used to monitor and measure progress toward achieving project results);

—Methods for collecting and analyzing data on measures;

—Evaluation methods that will be used to assess impacts and outcomes;

—Evaluation expertise that will be available for this purpose;

—How results are expected to contribute to: The objectives of the Program as a whole, and Healthy People 2010 goals and objectives; and

—The potential for replicating the evaluation methods for similar efforts by this or other applicants.

Discuss plans and describe the vehicle (e.g., manual, CD) that will be used to document the steps which others may follow to replicate the proposed project in similar communities. Describe plans for disseminating project results to other communities.

Appendices:

—Submit a Memorandum of Agreement between the applicant and each partnering institution of higher education with the application for funding.

—Include other relevant information in this section, such as documentation of non-profit status, and bylaws and/or charter to operate nationally must be furnished with the application.

If required, attach a report on the project and outcomes supported under the HIV/AIDS Health Promotion and Education Program (does not count against page limitation).

In addition to the project narrative, the application must contain a detailed budget justification which includes a narrative explanation and indicates the computation of expenditures for each year for which grant support is requested. The budget request must include funds for key project staff to attend an annual OMH grantee meeting. (The budget justification does not count toward the page limitation.)

B. Data Universal Numbering System Number (DUNS)

Applications must have a Dun & Bradstreet (D&B) Data Universal Numbering System number as the universal identifier when applying for Federal grants. The D&B number can be obtained by calling (866) 705-5711 or through the Web site at http://www.dnb.com/us/.

3. Submission Dates and Times

To be considered for review, applications must be received by the Office of Public Health and Science, Office of Grants Management, c/o WilDon Solutions, by 5 p.m. Eastern Time on July 30, 2007. Applications will be considered as meeting the deadline if they are received on or before the deadline date. The application due date requirement in this announcement supercedes the instructions in the OPHS-1 form.

Submission Mechanisms

The Office of Public Health and Science (OPHS) provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

While applications are accepted in hard copy, the use of the electronic application submission capabilities provided by the Grants.gov and GrantSolutions.gov systems is encouraged. Applications may only be submitted electronically via the electronic submission mechanisms specified below. Any applications submitted via any other means of electronic communication, including facsimile or electronic mail, will not be accepted for review.

In order to apply for new funding opportunities which are open to the public for competition, you may access the Grants.gov Web site portal. All OPHS funding opportunities and application kits are made available on Grants.gov. If your organization has/had a grantee business relationship with a grant program serviced by the OPHS Office of Grants Management, and you are applying as part of ongoing grantee related activities, please access GrantSolutions.gov.

Electronic grant application submissions must be submitted no later than 5 p.m. Eastern Time on the deadline date specified in the DATES section of the announcement using one of the electronic submission mechanisms specified below. All required hardcopy original signatures and mail-in items must be received by the OPHS Office of Grants Management, c/o WilDon Solutions, no later than 5 p.m. Eastern Time on the next business day after the deadline date specified in the DATES section of the announcement.

Applications will not be considered valid until all electronic application components, hardcopy original signatures, and mail-in items are received by the OPHS Office of Grants Management according to the deadlines specified above. Application submissions that do not adhere to the due date requirements will be considered late and will be deemed ineligible.

Applicants are encouraged to initiate electronic applications early in the application development process, and to submit early on the due date or before. This will aid in addressing any problems with submissions prior to the application deadline.

Electronic Submissions via the Grants.gov Web Site Portal

The Grants.gov Web site Portal provides organizations with the ability to submit applications for OPHS grant opportunities. Organizations must successfully complete the necessary registration processes in order to submit an application. Information about this system is available on the Grants.gov Web site, http://www.grants.gov.

In addition to electronically submitted materials, applicants may be required to submit hard copy signatures for certain Program related forms, or original materials as required by the announcement. It is imperative that the applicant review both the grant announcement, as well as the application guidance provided within the Grants.gov application package, to determine such requirements. Any required hard copy materials, or documents that require a signature, must be submitted separately via mail to the OPHS Office of Grants Management, c/o WilDon Solutions, and if required, must contain the original signature of an individual authorized to act for the applicant agency and the obligations imposed by the terms and conditions of the grant award. When submitting the required forms, do not send the entire application. Complete hard copy applications submitted after the electronic submission will not be considered for review.

Electronic applications submitted via the Grants.gov Web site Portal must contain all completed online forms required by the application kit, the Program Narrative, Budget Narrative and any appendices or exhibits. All required mail-in items must received by the due date requirements specified above. Mail-In items may only include publications, resumes, or organizational documentation. When submitting the required forms, do not send the entire application. Complete hard copy applications submitted after the electronic submission will not be considered for review.

Upon completion of a successful electronic application submission via the Grants.gov Web site Portal, the applicant will be provided with a confirmation page from Grants.gov indicating the date and time (Eastern Time) of the electronic application submission, as well as the Grants.gov Receipt Number. It is critical that the applicant print and retain this confirmation for their records, as well as a copy of the entire application package.

All applications submitted via the Grants.gov Web site Portal will be validated by Grants.gov. Any applications deemed “Invalid” by the Grants.gov Web site Portal will not be transferred to the GrantSolutions system, and OPHS has no responsibility for any application that is not validated and transferred to OPHS from the Grants.gov Web site Portal. Grants.gov will notify the applicant regarding the application validation status. Once the application is successfully validated by the Grants.gov Web site Portal, applicants should immediately mail all required hard copy materials to the OPHS Office of Grants Management, c/o WilDon Solutions, to be received by the deadlines specified above. It is critical that the applicant clearly identify the Organization name and Grants.gov Application Receipt Number on all hard copy materials.

Once the application is validated by Grants.gov, it will be electronically transferred to the GrantSolutions system for processing. Upon receipt of both the electronic application from the Grants.gov Web site Portal, and the required hardcopy mail-in items, applicants will receive notification via mail from the OPHS Office of Grants Management confirming the receipt of the application submitted using the Grants.gov Web site Portal.

Applicants should contact Grants.gov regarding any questions or concerns regarding the electronic application process conducted through the Grants.gov Web site Portal.

Electronic Submissions via the GrantSolutions System

OPHS is a managing partner of the GrantSolutions.gov system. GrantSolutions is a full life-cycle grants management system managed by the Administration for Children and Families, Department of Health and Human Services (HHS), and is designated by the Office of Management and Budget (OMB) as one of the three Government-wide grants management systems under the Grants Management Line of Business initiative (GMLoB). OPHS uses GrantSolutions for the electronic processing of all grant applications, as well as the electronic management of its entire Grant portfolio.

When submitting applications via the GrantSolutions system, applicants are required to submit a hard copy of the application face page (Standard Form 424) with the original signature of an individual authorized to act for the applicant agency and assume the obligations imposed by the terms and conditions of the grant award. If required, applicants will also need to submit a hard copy of the Standard Form LLL and/or certain Program related forms (e.g., Program Certifications) with the original signature of an individual authorized to act for the applicant agency. When submitting the required forms, do not send the entire application. Complete hard copy applications submitted after the electronic submission will not be considered for review.

Electronic applications submitted via the GrantSolutions system must contain all completed online forms required by the application kit, the Program Narrative, Budget Narrative and any appendices or exhibits. The applicant may identify specific mail-in items to be sent to the Office of Grants Management separate from the electronic submission; however these mail-in items must be entered on the GrantSolutions Application Checklist at the time of electronic submission, and must be received by the due date requirements specified above.

Mail-in items may only include publications, resumes, or organizational documentation. When submitting the required forms, do not send the entire application. Complete hard copy applications submitted after the electronic submission will not be considered for review.

Upon completion of a successful electronic application submission, the GrantSolutions system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the GrantSolutions system to ensure that all signatures and mail-in items are received.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award. Mailed or hand-delivered applications will be considered as meeting the deadline if they are received by the OPHS Office of Grant Management, c/o WilDon Solutions, on or before 5 p.m. Eastern Time on the deadline date specified in the DATES section of the announcement. The application deadline date requirement specified in this announcement supersedes the instructions in the OPHS-1. Applications that do not meet the deadline will be returned to the applicant unread.

4. Intergovernmental Review

The HIV/AIDS Program is subject to requirements of Executive Order 12372 which allows States the options of setting up a system for reviewing applications from within their States for assistance under certain Federal programs. The application kits available under this notice will contain a list of States which have chosen to set up a review system and will include a State Single Point of Contact (SPOC) in the State for review. The SPOC list is also available on the Internet at the following address: http://www.whitehouse.gov/omb/grants/spoc.html. Applicants (other than federally recognized Indian tribes) should contact their SPOC as early as possible to alert them to the prospective applications and receive any necessary instructions on the State process. The due date for State process recommendations is 60 days after the application deadlines established by the OPHS Grants Management Officer. The OMH does not guarantee that it will accommodate or explain its responses to State process recommendations received after that date. (See “Intergovernmental Review of Federal Programs,” Executive Order 12372, and 45 CFR Part 100 for a description of the review process and requirements.)

5. Funding Restrictions

Budget Request: If funding is requested in an amount greater than the ceiling of the award range, the application will be considered non-responsive and will not be entered into the review process. The application will be returned with notification that it did not meet the submission requirements.

Grant funds may be used to cover costs of:

Personnel.

Consultants.

Equipment.

Supplies (including screening and outreach supplies).

Grant-related travel (domestic only), including attendance at an annual OMH grantee meeting.

Other grant-related costs.

Grant funds may not be used for:

Building alterations or renovations.

Construction.

Fund raising activities.

Job training.

Medical care, treatment or therapy.

Political education and lobbying.

Research studies involving human subjects.

Vocational rehabilitation.

Tuition/support for a regular course of education leading to a degree, certificate, license or diploma.

Guidance for completing the budget can be found in the Program Guidelines, which are included with the complete application kit.

Section V. Application Review Information

1. Criteria

The technical review of the HIV/AIDS Health Promotion and Education Program applications will consider the following four generic factors listed, in descending order of weight.

A. Factor 1: Program Plan (40%)

Appropriateness and merit of proposed approach and specific activities for each objective.

Logic and sequencing of the planned approaches as they relate to the statement of need and to the objectives.

Soundness of established partnership and the roles of the partnership members in the program.

Qualifications and appropriateness of proposed staff or requirements for “to be hired” staff and consultants.

Proposed staff level of effort.

Appropriateness of defined roles including staff reporting channels and that of any proposed consultants.

B. Factor 2: Evaluation Plan (25%)

The degree to which intended results are appropriate for the objectives of the HIV/AIDS Program overall, stated objectives of the proposed project and proposed activities.

Appropriateness of the proposed methods for data collection (including demographic data to be collected on project participants), analysis and reporting.

Suitability of process, outcome, and impact measures.

Clarity of the intent and plans to assess and document progress towards achieving objectives, planned activities, and intended outcomes.

Potential for the proposed project to impact the health status of the target population(s) relative to the health areas addressed.

Soundness of the plan to document the project for replicability in similar communities.

Soundness of the plan to disseminate project results.

The potential for replicating the evaluation methods for similar efforts.

C. Factor 3: Background (20%)

Demonstrated knowledge of the problem at the national and local level.

Significance and prevalence of HIV/AIDS issues on the proposed campuses, in surrounding community(ies) and among the target population(s).

Extent to which the applicant demonstrates access to the target community(ies), and whether it is well positioned and accepted within the community(ies) to be served.

Extent and documented outcome of past efforts and activities with the target high-risk and/or HIV/AIDS minority population.

Applicant's capability to manage and evaluate the project as determined by:

The applicant organization's experience in managing HIV/AIDS-oriented project/activities involving the targeted young adult minority population.

The applicant's organizational structure and proposed project organizational structure.

Clear lines of authority among and between the proposed staff and the partnership organizations.

If applicable, the extent and documented outcome(s) of activities conducted under the OMH-supported HIV/AIDS Health Promotion and Education Program included in the required progress report.

D. Factor 4: Objectives (15%)

Merit of the objectives.

Relevance to Healthy People 2010 and National Partnership for Action objectives

Relevance to the HIV/AIDS Health Promotion and Education Program purpose and expectations, and to the stated problem to be addressed by the proposed project.

Degree to which the objectives are stated in measurable terms.

Attainability of the objectives in the stated time frames.

2. Review and Selection Process

Accepted HIV/AIDS Program applications will be reviewed for technical merit in accordance with PHS policies. Applications will be evaluated by an Objective Review Committee (ORC). Committee members are chosen for their expertise in minority health and health disparities, and their understanding of the unique health problems and related issues confronted by the racial and ethnic minority populations in the United States. Funding decisions will be determined by the Deputy Assistant Secretary for Minority Health who will take under consideration:

The recommendations and ratings of the ORC.

Geographic distribution of applicants.

A balanced distribution of populations to be served.

3. Anticipated Award Date

September 1, 2007.

Section VI. Award Administration Information

1. Award Notices

Successful applicants will receive a notification letter from the Deputy Assistant Secretary for Minority Health and a Notice of Grant Award (NGA), signed by the OPHS Grants Management Officer. The NGA shall be the only binding, authorizing document between the recipient and the Office of Minority Health. Unsuccessful applicants will receive notification from OPHS.

2. Administrative and National Policy Requirements

In accepting this award, the grantee stipulates that the award and any activities thereunder are subject to all provisions of 45 CFR parts 74 and 92, currently in effect or implemented during the period of the grant.

The DHHS Appropriations Act requires that, when issuing statements, press releases, requests for proposals, bid solicitations, and other documents describing projects or programs funded in whole or in part with Federal money, all grantees shall clearly state the percentage and dollar amount of the total costs of the program or project which will be financed with Federal money and the percentage and dollar amount of the total costs of the project or program that will be financed by non-governmental sources.

3. Reporting Requirements

A successful applicant under this notice will submit: (1) Semi-annual progress reports;(2) an Annual Financial Status Report; and (3) a final progress report and Financial Status Report in the format established by the OMH, in accordance with provisions of the general regulations which apply under “Monitoring and Reporting Program Performance,” 45 CFR 74.51-74.52, with the exception of State and local governments to which 45 CFR part 92, Subpart C reporting requirements apply.

Uniform Data Set: The Uniform Data Set (UDS) is a web-based system used by OMH grantees to electronically report progress data to OMH. It allows OMH to more clearly and systematically link grant activities to OMH-wide goals and objectives, and document programming impacts and results. All OMH grantees are required to report program information via the UDS (http://www.dsgonline.com/omh/uds). Training will be provided to all new grantees on the use of the UDS system during the annual grantee meeting.

Grantees will be informed of the progress report due dates and means of submission. Instructions and report format will be provided prior to the required due date. The Annual Financial Status Report is due no later than 90 days after the close of each budget period. The final progress report and Financial Status Report are due 90 days after the end of the project period. Instructions and due dates will be provided prior to required submission.

Section VII. Agency Contact(s)

For application kits, submission of applications, and information on budget and business aspects of the application, please contact: WilDon Solutions, Office of Grants Management Operations Center, 1515 Wilson Blvd., Third Floor, Suite 310, Arlington, VA 22209 at 1-888-203-6161, e-mail OPHSgrantinfo@teamwildon.com, or fax 703-351-1138.

For questions related to the HIV/AIDS Health Promotion and Education Program or assistance in preparing a grant proposal, contact Ms. Sonsiere Cobb-Souza, Acting Director, Division of Program Operations, Office of Minority Health, Tower Building, Suite 600, 1101 Wootton Parkway, Rockville, MD 20852. Ms. Cobb-Souza can be reached by telephone at (240) 453-8444; or by e-mail at Sonsiere.Cobb-Souza@hhs.gov.

For health information, call the OMH Resource Center (OMHRC) at 1-800-444-6472.

Section VIII. Other Information

1. Background

From 2001 to 2005, African Americans accounted for 48% of newly diagnosed cases of HIV/AIDS, despite the fact that they comprise only 13% of the U.S. population. Similarly, Hispanics, who comprise 14% of the U.S. population, accounted for nearly 17% of newly diagnosed cases. With respect to HIV/AIDS trends among youth age 15 to 24 years, scientists believe that HIV infection trends are an indicator of the future course of the HIV/AIDS epidemic, since infections among youth are fairly recent. Up until 2003 there were an estimated 9,789 deaths from HIV reported for youth aged 15 to 24. Although the death rate from AIDS for youth has declined 71% (from 1989 through 2003), the challenge of assisting youth living with AIDS have long-term implications in terms of disparities in care, preventing secondary transmission of HIV, and addressing their social and medical needs.⁴

⁴ HIV Prevention in the Third Decade; Specific Populations, How Are they Affected?; Centers for Disease Control and Prevention; January 24, 2006.

2. Healthy People 2010

The Public Health Service (PHS) is committed to achieving the health promotion and disease prevention objectives of Healthy People 2010, a PHS-led national activity announced in January 2000 to eliminate health disparities and improve years and quality of life. More information may be found on the Healthy People 2010 Web site: http://www.healthypeople.gov/ and copies of the documents may be downloaded. Copies of the Healthy People 2010: Volumes I and II can be purchased by calling (202) 512-1800 (cost $70.00 for printed version; $20.00 for CD-ROM). Another reference is the Healthy People 2010 Final Review—2001.

For one free copy of the Healthy People 2010, contact: The National Center for Health Statistics, Division of Data Services, 3311 Toledo Road, Hyattsville, MD 20782, or by telephone at (301) 458-4636. Ask for HHS Publication No. (PHS) 99-1256. This document may also be downloaded from: http://www.healthypeople.gov.

2. Definitions

For purposes of this announcement, the following definitions apply:

Memorandum of Agreement (MOA)—A document signed by the applicant and an authorized representative of each participating institution of higher education, as well as any additional partnering entities. The MOA should detail the roles and resources each entity will provide for the project, the terms, and the duration of the agreement (must cover the entire project period).

Minority Populations—American Indian or Alaska Native, Asian, Black or African American, Hispanic or Latino, and Native Hawaiian or Other Pacific Islander (42 U.S.C. 300u-6, section 1707 of the Public Health Service Act, as amended).

National Minority-Serving Organization—A national private non-profit organization whose mission focuses on health issues affecting minority communities nationwide and that has a history of service to racial/ethnic minority populations.

National Organizations—A national private, nonprofit organization which addresses health or human services.

Nonprofit Organizations—Corporations or associations, no part of whose net earnings may lawfully inure to the benefit of any private shareholder or individual. Proof of nonprofit status must be submitted by private nonprofit organizations with the application or, if previously filed with PHS, the applicant must state where and when the proof was submitted. (Section III, 3. Other, for acceptable evidence of non-profit status.)

Sociocultural Barriers—Policies, practices, behaviors and beliefs that create obstacles to health care access and service delivery. Examples of sociocultural barriers include:

Cultural differences between individuals and institutions.

Cultural differences of beliefs about health and illness.

Customs and lifestyles.

Cultural differences in languages or nonverbal communication styles.

Dated: June 13, 2007.
Garth N. Graham,
Deputy Assistant Secretary for Minority Health.

[FR Doc. E7-12530 Filed 6-27-07; 8:45 am]

BILLING CODE 4150-29-P